DEPARTMENT OF HEALTH AND HUMAN SERVICES

Centers for Medicare & Medicaid Services

[Document Identifier: CMS-718-721, CMS-10303 and CMS-685]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Reinstatement with change of a previously approved collection; Title of Information Collection: Business Proposal Forms for Quality Improvement Organizations (QIOs); Use: The submission of proposal information by current quality improvement associations (QIOs) and other bidders, on the appropriate forms, will satisfy CMS's need for meaningful, consistent, and verifiable data with which to evaluate contract proposals. The data collected on the forms associated with this information collection request is used by CMS to negotiate QIO contracts. The revised business proposal forms will be useful in a number of important ways. The Government will be able to compare the costs reported by the QIOs on the cost reports to the proposed costs noted on the business proposal forms. Subsequent contract and modification negotiations will be based on historic cost data. The business proposal forms will be one element of the historical cost data from which we can analyze future proposed costs. In addition, the business proposal format will standardize the cost proposing and pricing process among all QIOs. With well-defined cost centers and line items, proposals can be compared among QIOs for reasonableness and appropriateness. Form Number: CMS-718-721 (OMB#: 0938-0579); Frequency: Reporting—Triennially; Affected Public: Business or other for-profits and Not-for-profit institutions; Number of Respondents: 21; Total Annual Responses: 21; Total Annual Hours: 1,785. (For policy questions regarding this collection contact Clarissa Whatley at 410-786-7154. For all other issues call 410-786-1326.)

2. Type of Information Collection Request: New collection; Title of Information Collection: Medicare Gainsharing Demonstration Evaluation: Physician Focus Groups; Use: The proposed physician focus groups are part of an overall evaluation of the Centers for Medicare & Medicaid Services CMS' congressionally mandated Medicare Gainsharing Demonstration Evaluation. The Congress, under Section 5007 of the Deficit Reduction Act (DRA) of 2005, requires CMS to conduct a qualified gainsharing program to test alternative ways that hospitals and physicians can share in efficiency gains. The primary goal of the demonstration is to evaluate gainsharing as a means to align physician and hospital incentives to improve quality and efficiency. The demonstration has two mandated Reports to Congress. Results from physician focus groups will be included in both Reports to Congress. Form Number: CMS-10303 (OMB#: 0938-New); Frequency: Once; Affected Public: Private Sector, Business or other for profits; Number of Respondents: 192; Total Annual Responses: 96; Total Annual Hours: 96. (For policy questions regarding this collection contact William Buczko at 410-786-6593. For all other issues call 410-786-1326.)

3. Type of Information Collection Request: Extension of a currently approved collection; Title of Information Collection: End Stage Renal Disease (ESRD) Network Semi-Annual Cost Report Forms and Supporting Regulations in 42 CFR section 405.2110 and 42 CFR 405.2112; Use: Section 1881(c) of the Social Security Act establishes End Stage Renal Disease (ESRD) Network contracts. The regulations found at 42 CFR 405.2110 and 405.2112 designated 18 ESRD Networks which are funded by renewable contracts. These contracts are on 3-year cycles. To better administer the program, CMS is requiring contractors to submit semi-annual cost reports. The purpose of the cost reports is to enable the ESRD Networks to report costs in a standardized manner. This will allow CMS to review, compare and project ESRD Network costs during the life of the contract. Form Number: CMS-685 (OMB#: 0938-0657); Frequency: Reporting—Semi-annually; Affected Public: Not-for-profit institutions; Number of Respondents: 18; Total Annual Responses: 36; Total Annual Hours: 108. (For policy questions regarding this collection contact Victoria Morgan at 410-786-7232. For all other issues call 410-786-1326.)

To obtain copies of the supporting statement and any related forms for the proposed paperwork collections referenced above, access CMS' Web Site at http://www.cms.hhs.gov/PaperworkReductionActof1995, or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by March 16, 2010:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: January 8, 2010.
Michelle Shortt,
Director, Regulations Development Group, Office of Strategic Operations and Regulatory Affairs.

[FR Doc. 2010-743 Filed 1-14-10; 8:45 am]

BILLING CODE 4120-01-P